DEPARTMENT OF HEALTH AND HUMAN SERVICES

Centers for Disease Control and Prevention

[Program Announcement 02183]

Monitoring Prevalence of STDs and TB Infection in Persons Entering Corrections Facilities; Part A: Building Capacity for Monitoring STD and TB Prevalence; Part B: Enhanced Activities for Monitoring STD and TB Prevalence in Existing Sites; Notice of Availability of Funds

A. Purpose

The Centers for Disease Control and Prevention (CDC) announces the availability of fiscal year (FY) 2002 funds for a cooperative agreement program for monitoring prevalence of sexually transmitted diseases (STDs) and tuberculosis (TB) infection in corrections facilities. This program addresses the “Healthy People 2010” focus area of Sexually Transmitted Diseases (STDs). Measurable outcomes of the program will be in alignment with one or more of the following performance goals for National Center for HIV, STD and TB Prevention:

(1) Reduce the incidence of primary and secondary syphilis.

(2) Reduce the incidence of congenital syphilis.

(3) Eliminate tuberculosis in the United States.

This program has two Parts. The purpose of Part A—Building Capacity for Monitoring STD and TB Prevalence is: (1) To develop systems for collecting and reporting STD and TB screening data in persons entering jails and juvenile detention facilities; and (2) to develop methods utilizing these data to help guide STD and TB prevention and intervention activities.

The purpose of Part B—Enhanced Activities for Monitoring STD and TB Prevalence in Existing Sites is: (1) To enhance existing systems for collecting and reporting STD and TB screening data in persons entering jails and juvenile detention facilities; and (2) to develop, refine and identify the programmatic benefit of epidemiologic methods utilizing these data for prevention and intervention activity planning.

B. Authority and Catalog of Federal Domestic Assistance Number

This program is authorized under sections 317E and 318 of the Public Health Service Act (42 U.S.C. sections 247b-6 and 247c). The Catalog of Federal Domestic Assistance number is 93.978.

C. Eligible Applicants

Part A

Assistance will be provided only to the health departments of States or their bona fide agents, including the District of Columbia, the Commonwealth of Puerto Rico, the Virgin Islands, the Commonwealth of the Northern Mariana Islands, American Samoa, Guam, the Federated States of Micronesia, the Republic of the Marshall Islands, the Republic of Palau, and federally recognized Indian tribal governments. In consultation with States, assistance may be provided to political subdivisions of States. Project areas awarded funds in FY 1999, FY 2000, or FY 2001 under Program Announcement 99000, “Comprehensive STD Prevention System (CSPS), Monitoring Prevalence of STDs and TB Infection in Persons Entering Corrections Facilities' are not eligible for funding under Part A.

Part B

Only project areas awarded funds in FY 1999, FY 2000, or FY 2001 under Program Announcement 99000, “Comprehensive STD Prevention System (CSPS), Monitoring Prevalence of STDs and TB Infection in Persons Entering Corrections Facilities,” (i.e., Alabama, Arizona, Arkansas, Louisiana, Massachusetts, Missouri, North Carolina, Oregon, San Francisco, Rhode Island, Wisconsin) are eligible to apply for funds under Part B.

D. Availability of Funds

Part A

Approximately $125,000 is available in FY 2002 to fund two to four awards. It is expected that the average award will be $50,000, ranging from $30,000 to $70,000. It is expected that the awards will begin on or before September 30, 2002 and will be made for a 12-month budget period within a project period of up to two years. Funding estimates may change.

Part B

Approximately $75,000 is available in FY 2002 to fund one to three awards. It is expected that the average award will be $30,000, ranging from $20,000 to $50,000. It is expected that the awards will begin on or before September 30, 2002 and will be made for a 12-month budget period within a project period of up to two years. Funding estimates may change.

Part A and B

Continuation awards within an approved project period will be made on the basis of satisfactory progress as evidenced by required reports, data quality and timely submission, analyses performed and uses of data for providing epidemiologic guidance to STD and TB prevention and intervention activities, and the availability of funds.

Use of Funds

Part A

Funds may be used to support personnel and to purchase equipment, supplies, and services directly related to project activities (i.e., improve the collection, management, and reporting of data). Funds may not be used to provide direct medical care.

Part B

Funds may be used to support personnel and services that are related to project activities (i.e., enhance the collection, management, reporting, and analysis of data). Funds may not be used to provide direct medical care.

Recipient Financial Participation

Grantees will be required to provide matching funds at a ratio of 1:2 (i.e., $1 of new state or local, public or private resources for each $2 of federal resources awarded). New resources may include newly identified funds or newly identified in-kind resources.

Funding Preference

Funding preference may be given to achieve geographical diversity.

E. Program Requirements (Part A and B)

In conducting activities to achieve the purpose of this program, the recipient will be responsible for the activities under 1. Recipient Activities, and CDC will be responsible for the activities listed under 2. CDC Activities.

Part A

1. Recipient Activities

a. Design and implement a surveillance system that will address the study objectives in Section A by implementing a monitoring system for STDs and TB among persons entering corrections facilities.

b. Collect data on at least 75 men per week and 25 women per week. If a single facility does not have this many entrants per week, multiple facilities may participate so as to provide the required sample size. Jail, juvenile, and prison facilities are eligible to participate. Both male and female inmates must be included in the project.

c. Collect data that pertains to the first routine medical intake for men and women. Ideally, the intake should occur at the point of entry into the criminal justice system, but if not, it should occur before any medical care or treatment is provided. The intake should occur within 14 days of admission.

d. Collect the following demographic and STD-related variables: Sex, age, race/ethnicity, zip code or census tract of residence, date of admission, symptoms (men only), and STD laboratory results. In addition, the following TB-related variables for each person tested must be collected: Country of birth, history of TB, prior Purified Protein Derivative (PPD) status, PPD result, and for those positive, chest x-ray findings and use of Isoniazid (INH) prophylaxis.

e. Submit data in line-listed format quarterly to CDC.

f. Analyze data in a manner that helps provide epidemiologic guidance to STD and TB prevention and intervention activities. Jail and juvenile chlamydia and/or gonorrhea screening data should be shared with the appropriate Regional Infertility Prevention Program Advisory Committee.

g. Attendance for one to two project staff members at an annual principal investigator meeting is required.

h. Participation in monthly conference calls is required.

2. CDC Activities

a. Provide technical assistance in the design and conduct of the project.

b. Conduct one site visit to each funded project for technical assistance.

c. Assist in designing a data management system and designing data analyses to help guide STD and TB prevention and intervention activities.

Part B

1. Recipient Activities

Applicants should have a proven history of having successfully implemented and sustained STD and TB prevalence data collection in a correctional facility as illustrated by addressing the following:

a. Design and implement a surveillance system that will address the study objectives in section A by implementing a monitoring system for STDs and TB among persons entering corrections facilities.

b. Collect data on at least 75 men per week and 25 women per week. If a single facility does not have this many entrants per week, multiple facilities may participate so as to provide the required sample size. Jail, juvenile, and prison facilities are eligible to participate. Both male and female inmates must be included in the project.

c. Collect data that pertains to the first routine medical intake for men and women. Ideally, the intake should occur at the point of entry into the criminal justice system, but if not, it should occur before any medical care or treatment is provided. The intake should occur within 14 days of admission.

d. Collect the following demographic and STD-related variables: Sex, age, race/ethnicity, zip code or census tract of residence, date of admission, symptoms (men only), and STD laboratory results. In addition, the following TB-related variables for each person tested are being collected: country of birth, history of TB, prior PPD status, PPD results, and for those positive, chest x-ray findings and use of INH prophylaxis. Additional variables collected for local use should be described.

e. Submit data in line-listed format quarterly to CDC.

f. Analyze data in a manner that helps provide epidemiologic guidance to STD and TB prevention and intervention activities. Jail and juvenile chlamydia and/or gonorrhea screening data should be shared with the appropriate Regional Infertility Prevention Program Advisory Committee.

g. Attendance for one to two project staff members at an annual principal investigator meeting is required.

h. Participation in monthly conference calls is required.

2. CDC Activities

a. Provide technical assistance in the design and conduct of the project.

b. Conduct one site visit to each funded project for technical assistance.

c. Assist in designing a data management system and designing data analyses to help guide STD and TB prevention and intervention activities.

F. Application Content (Part A and B)

Letter of Intent (LOI)

An LOI is required from potential applicants. The narrative should be no more than two double-spaced pages, printed on one side, with one-inch margins, and unreduced font. The LOI should include the following: Program Announcement number 01283, name, address, and telephone number of a contact person and whether you intend to apply for Part A or Part B. The LOIs will be used to assist CDC in planning the application review process.

Applications

The Program Announcement title and number must appear in the application. Use the information in the Program Requirements, Other Requirements, and Evaluation Criteria sections to develop the application content. Your application will be evaluated on the criteria listed, so it is important to follow them in laying out your proposal. The narrative should be no more than ten double-spaced pages, printed on one side, with one-inch margins, and unreduced font.

The narrative should consist of, at minimum, a plan, objectives, methods, evaluation, and budget. Applicants may submit for more than one site for these activities, but the maximum amount of Federal funds awarded to each grantee will be limited to $70,000 (Part A) and $50,000 (Part B).

Letter of Support

Provide evidence of support from the corrections facility by attaching a letter in support of the proposal.

G. Submission and Deadline (Part A and B)

Letter of Intent (LOI)

On or before July 12, 2002, submit the LOI to the Grants Management Specialist identified in the “Where to Obtain Additional Information” section of this announcement.

Application

Submit the original and two copies of PHS 5161-1 (OMB Number 0920-0428). Forms are available in the application kit and at the following Internet address: www.cdc.gov/od/pgo/forminfo.htm.

Application packages must be submitted in the following order:

Cover letter

Table of Contents

Application

Budget Information Form

Budget Justification

Checklist

Assurances

Certification

Disclosure Form

HIV Assurance Form (if applicable)

Human Subjects Certification (if applicable)

Indirect Cost Rate Agreement (if applicable)

Narrative

Applications must be submitted in hard copy form.

The application must be received on or before July 31, 2002. Submit the application to: Technical Information Management—PA02183, Procurement and Grants Office, Centers for Disease Control and Infection, 2920 Brandywine Rd, Room 3000, Atlanta, GA 30341-4146.

Deadline: Letters of intent and applications shall be considered as meeting the deadline if they are received before 5 P.M. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

G. Evaluation Criteria

Application

Applicants are required to provide measures of effectiveness that will demonstrate the accomplishment of the various identified objectives of the cooperative agreement. Measures of effectiveness must relate to the performance goals stated in section “A. Purpose” of this announcement. Measures must be objective and quantitative and must measure the intended outcome. These measures of effectiveness shall be submitted with the application and shall be an element of evaluation.

Each application will be evaluated individually against the following criteria by an independent review group appointed by CDC:

Part A

1. Plan: The degree to which the applicant describes the project plan and indicates a time frame for project activities. The extent to which the plan addresses each of the program requirements listed below. (20 points)

The application should include:

a. A description of the extent of collaboration between the health department and corrections facility for the purpose of implementing routine STD and TB screening and data collection as evidenced by a letter of support from the corrections facility.

b. A description of who would be offered STD and TB services and which services would be offered.

c. A description of changes, if any, that would be made to the current system, with respect to medical services provided, data collected, data management.

d. A description of the proposed data analyses and the extent to which these analyses will help provide epidemiologic guidance to STD and TB prevention and intervention activities.

e. The degree to which the applicant adequately addresses the CDC Policy requirements regarding the inclusion of women, ethnic, and racial groups in the proposed activities. (5 points) This includes:

1. The proposed plan for the inclusion of both sexes and racial and ethnic minority populations for appropriate representation.

2. The proposed justification when representation is limited or absent.

3. A statement as to whether the design of the project is adequate to measure differences when warranted.

4. A statement as to whether the plans include the process of establishing partnerships with communities and recognition of mutual benefits.

2. Objectives: The degree to which the applicant describes how the project proposes to develop systems for collecting and reporting STD and TB screening data in persons entering jails and juvenile detention facilities and to develop methods utilizing these data to help guide STD and TB prevention and intervention activities. (20 points)

The application should include:

a. A description that addresses the method by which and the extent to which STD/TB prevalence data or other data collected in conjunction with STD/TB data will be used to help provide epidemiologic guidance and otherwise inform STD and TB programmatic prevention and intervention activities.

b. Expertise of project staff to analyze data and to develop future analytic plans. Also include a plan for dissemination of findings to local public health agencies, corrections officials, and Regional Infertility Prevention Program Advisory Committees for use in providing guidance to STD and TB control prevention and intervention activities.

c. The extent to which the number of men and women per week for whom data will be submitted exceeds the required 75 men and 25 women per week at the participating jails.

3. Methods: The degree to which the methods described for implementing and evaluating data collection and analyses are appropriate. (20 points)

The application should include:

a. A description of participating corrections facilities: Include daily census, intakes per week for men and women (include breakdown by age group and race/ethnicity, if available), average length of stay, and where inmates come from (area of draw, referral patterns).

b. A description that includes the extent to which all core STD data elements (presence of genital ulcer, urethral discharge in men only, syphilis test results, stage of syphilis, gonorrhea results, chlamydia results, HIV results, pregnancy test results) and TB data elements (country of birth, history of TB, prior PPD status, PPD results, and for those positive, chest x-ray findings and use of INH prophylaxis) will be collected.

c. A description of the extent of medical services at intake: Describe medical services provided at intake, including how many days after admission services are provided, and whether medical history, physical exam, and lab testing are completed. State whether inmates are asked about STD or TB symptoms routinely, if all receive STD tests (and which STD tests are routinely conducted) and tuberculin skin tests (TST), and what follow-up care is provided for STD and TST positive persons on site.

d. A description of data management: Describe the management of STD and TB data routinely collected at intake. Describe what data are recorded and where. Explain what computerized data systems, if any, are in place and describe what computerized system will be used for this project.

e. A description and explanation of the methods that will be used to determine the percentage of eligible detainees that are tested.

4. Evaluation Plan: The degree to which the applicant provides a plan for evaluating the accuracy and completeness of the data provided by the corrections facility that is appropriate and comprehensive. The application should include a description and extent to which a plan for evaluating how these data will be used to help provide epidemiologic guidance to STD and TB prevention and intervention activities. (20 points)

5. Sustainability of the project: The degree to which project activities will be integrated with existing STD and TB surveillance activities and will be continued without this source of funding. Please explain why successful activities developed by this proposal can be sustained past the duration of the project period and what will ensure that this happens. (15 points)

6. Budget: The degree to which the budget is reasonable, clearly justified and consistent with the intent of the announcement. The matching funds requirement is not scored, however it is reflected in the evaluation criteria (criteria number 5) related to the sustainability of the program. (not scored)

7. Human Subjects: The extent to which the application adequately addresses the requirements of Title 45 CFR Part 46 for the protection of human subjects. (not scored)

Part B

1. Objectives: The degree to which the applicant describes how the project proposes to enhance existing systems for collecting and reporting STD and TB screening data in persons entering jails and juvenile detention facilities and to develop and refine epidemiologic methods utilizing these data for prevention and intervention activity planning. (30 points)

The application should include:

a. A description that includes a plan for using the STD/TB prevalence data or other data collected as part of this project to help provide epidemiologic guidance and otherwise inform STD and TB programmatic prevention and intervention activities and for demonstrating the programmatic benefit of having such data available.

b. A description of the current ability of staff to analyze data and of future analytic plans. Also a plan for dissemination of findings to local public health agencies, corrections officials, and Regional Infertility Prevention Program Advisory Committees for use in providing guidance to STD and TB control prevention and intervention activities.

c. The extent to which the number of men and women per week for whom data are submitted exceeds the required 75 men and 25 women per week at the participating jails.

2. Methods: The degree to which the applicant describes methods for implementing and evaluating the data collection and analyses that are appropriate. (20 points)

The application should include:

a. A description of current and new (if applicable) participating corrections facilities: Include daily census, intakes per week for men and women (include breakdown by age group and race/ethnicity, if available), average length of stay, and where inmates come from (area of draw, referral patterns).

b. The extent to which medical services are provided at intake: Describe medical services provided at intake, including how many days after admission services are provided, and whether medical history, physical exam, and lab testing are completed. State whether inmates are asked about STD or TB symptoms routinely, if all receive STD tests (and which STD tests are routinely conducted) and TST, and what follow up care is provided for STD and TST positive persons on site.

c. A description of the data management plan: Describe the management of STD and TB data routinely collected at intake. Describe what data are recorded and where.

d. The extent to which STD/TB prevalence data or other data collected in conjunction with these data are being, or will be, used to help provide epidemiologic guidance to STD and TB prevention and intervention activities.

e. A description of what new data and/or methods will be used in future activities should also be included.

f. A description and explanation of the methods that are used to determine the percentage of eligible detainees that are tested.

3. Plan: The degree to which the applicant describes the current and future project plans and indicates a time frame for new project activities. The plan should address each of the program requirements listed below. (15 points)

The application should include:

a. The extent of collaboration between the health department and corrections facility for the purpose of conducting routine STD and TB screening and data collection as evidenced by a letter of support from the corrections facility or facilities.

b. A description of currently offered STD and TB services and what new services would be offered.

c. A description that includes the extent to which all core STD data elements (presence of genital ulcer, urethral discharge men only, syphilis test results, stage of syphilis, gonorrhea results, chlamydia results, HIV results, pregnancy test results) and TB data elements (country of birth, history of TB, prior PPD status, PPD results, and for those positive, chest x-ray findings and use of INH prophylaxis) are currently collected and plans for future collection of these data elements or plans for collecting other variables to be used in local analyses.

d. The degree to which the applicant adequately addresses the CDC Policy requirements regarding the inclusion of women, ethnic, and racial groups in the proposed activities. (5 points) This includes:

1. The proposed plan for the inclusion of both sexes and racial and ethnic minority populations for appropriate representation.

2. The proposed justification when representation is limited or absent.

3. A statement as to whether the design of the project is adequate to measure differences when warranted.

4. A statement as to whether the plans include the process of establishing partnerships with communities and recognition of mutual benefits.

4. Sustainability of the project: The degree to which project activities have been integrated with existing STD and TB surveillance activities and will be continued without this source of funding. The degree to which the applicant explains why successful activities developed by this proposal can be sustained past the duration of the project period and what will ensure that this happens. (15 points)

5. Evaluation Plan: The degree to which the applicant's plan for evaluating the accuracy and completeness of the data provided by the corrections facility is appropriate and comprehensive. The application should include a description of the extent of current and future evaluations with regard to how the data is used currently and how the data will be used to help provide epidemiologic guidance to STD and TB prevention and intervention activities. (15 points)

6. Budget: The degree to which the budget is reasonable, clearly justified and consistent with the intent of the announcement. The matching funds requirement is not scored, however it is reflected in the evaluation criteria (criteria number 4) related to the sustainability of the program. (not scored)

7. Human Subjects: The extent to which the application adequately addresses the requirements of Title 45 CFR Part 46 for the protection of human subjects. (not scored)

I. Other Requirements (Part A and B)

Technical Reporting Requirements

Provide CDC with original plus two copies of

1. Annual progress reports. The progress report will include a data requirement that demonstrates measures of effectiveness.

2. Financial status report, no or than 90 days after the end of the budget period.

3. Final financial and performance reports, no more than 90 days after the end of the project period.

Send all reports to the Grants Management Specialist identified in the “Where to Obtain Additional Information” section of this announcement.

The following additional requirements are applicable to this program:

AR-1 Human Subjects Requirements

AR-2 Requirements for Inclusion of Women and Racial and Ethnic Minorities in Research

AR-4 HIV/AIDS Confidentiality Provisions

AR-5 HIV Program Review Panel Requirements

AR-7 Executive Order 12372

AR-9 Paperwork Reduction Act Requirements

AR-10 Smoke-Free Workplace Requirements

AR-11 Healthy People 2010

AR-14 Accounting System Requirements

AR-22 Research Integrity

J. Where To Obtain Additional Information

This and other CDC announcements can be found on the CDC Home Page Internet address http://www.cdc.gov Click on “Funding” then “Grants and Cooperative Agreements.”

To obtain business management technical assistance, contact: Jesse L. Robertson, Grants Management Specialist, Grants Management Branch, Procurement and Grants Office, >Centers for Disease Control and Prevention (CDC), 2920 Brandywine Road, Room 3000 Mailstop E-15, Atlanta, Georgia 30341-4146, Telephone: (770) 488-2747, E-mail Address: jtr4@cdc.gov.

For program technical assistance, contact:

Richard Kahn, MS, Epidemiology and Surveillance Branch, Division of STD Prevention, National Center for HIV, STD and TB Prevention, Centers for Disease Control and Prevention (CDC), 1600 Clifton Road, N.E., Mailstop E-02, Atlanta, GA 30333, Telephone Number: (404) 639-8956, E-mail Address: rhk0@cdc.gov,

or

Joe Posid, MPH, Division of TB Elimination, National Center for HIV, STD, TB Prevention, Centers for Disease Control and Prevention (CDC), 1600 Clifton Road, N.E., Mailstop E-27, Atlanta, GA, 30333, Telephone Number: (404) 639-1855, E-mail Address: jmp2@cdc.gov.

Dated: June 14, 2002.
Sandra R. Manning, CGFM,
Director, Procurement and Grants Office, Centers for Disease Control and Prevention.

[FR Doc. 02-15543 Filed 6-19-02; 8:45 am]

BILLING CODE 4163-18-P